DEPARTMENT OF LABOR

Employment and Training Administration

[TA-W-56,586]

Lawson-Hemphill Sales, Inc., Spartanburg, SC; Notice of Affirmative Determination Regarding Application for Reconsideration

By application of April 2, 2005, a petitioner requested administrative reconsideration of the Department of Labor's Notice of Negative Determination Regarding Eligibility to Apply for Worker Adjustment Assistance, applicable to workers of the subject firm. The determination was signed on March 3, 2005 and the Department's Notice of determination was published in the Federal Register on April 1, 2005 (70 FR 16847). Workers were engaged in the distribution of textile testing instruments.

A company official filed the petition on January 24, 2005 as a secondarily-affected company. The petition was denied on the basis that the subject firm neither separated nor threatened to separate a significant number or proportion of workers at the subject facility during the relevant period.

In the request for reconsideration, the petitioner alleged, and provided documentation that supports the allegation, that the subject facility is affiliated with Lawson-Hemphill, Inc., Central Falls, Rhode Island, and infers that worker separations at the subject facility are related to sales and/or production declines at Lawson-Hemphill, Inc., Central Falls, Rhode Island.

During the initial investigation, the Department determined that the subject facility was unaffiliated with Lawson-Hemphill, Inc., Central Falls, Rhode Island, and thus did not inquire into whether sales and/or production declined at that facility.

The Department carefully reviewed the petitioner's request for reconsideration and has determined that the Department will conduct further investigation based on new information provided by the petitioner.

Conclusion

After careful review of the application, I conclude that the claim is of sufficient weight to justify reconsideration of the Department of Labor's prior decision. The application is, therefore, granted.

Signed at Washington, DC, this 6th day of April 2005.
Elliott S. Kushner,
Certifying Officer, Division of Trade Adjustment Assistance.

[FR Doc. E5-1930 Filed 4-22-05; 8:45 am]

BILLING CODE 4510-30-P